DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Energy Priorities and Allocations System, OMB Control Number 1910-5159. The proposed collection will be used to allow persons to request special priorities assistance from DOE to fill a rated order issued in accordance with the Defense Production Act (DPA) and DOE's implementing regulations. DOE published a Federal Register notice on May 4, 2020 soliciting 60 days of public comment. DOE received one comment on that notice.

DATES: Comments regarding this collection must be received on or before October 2, 2020. If you anticipate that you will be submitting comments, but find it difficult to do so within the period of time allowed by this notice, please advise the OMB Desk Officer of your intention to make a submission as soon as possible. The Desk Officer may be telephoned at 202-395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Christopher A. Lawrence, U.S. Department of Energy, at Christopher.Lawrence@hq.doe.gov or 202-586-5260.

SUPPLEMENTARY INFORMATION: This information collection request contains: (1) OMB No.: 1910-5159; (2) Information Collection Request Title: Energy Priorities and Allocations System; (3) Type of Request: Extension; (4) Purpose: To meet requirements of the Defense Production Act (DPA) priorities and allocations authority necessary or appropriate to promote the national defense. Data supplied will be used to evaluate applicants requesting special priorities assistance to fill a rated order issued in accordance with the DPA and DOE's implementing regulations. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This data will also be used to conduct audits and for enforcement purposes. This collection will only be used if the Secretary of Energy determines that his authority under the DPA is necessary to prevent or address an energy shortage or energy reliability concern. The last collection by DOE under this authority was in 2001; (5) Annual Estimated Number of Respondents: 10, as this collection is addressed to a substantial majority of the energy industry; (6) Annual Estimated Number of Burden Hours: 32 minutes per response; (8) Annual Estimated Reporting and Recordkeeping Cost Burden: $381.57.

One comment was received on DOE's sixty-day notice (Kubitz, No 1). The commenter requested that companies provide information about current production of oil, maximum available oil production, and costs of incremental energy production, in order to information Defense Production Act decisions or orders. Id. The commenter stated that knowing the capacity of the industry as a whole by aggregating potential production from various companies would aid in allocation and prioritization of any necessary energy production under the Defense Production Act. Id. This information is already being collected by the Energy Information Administration within DOE to track the nation's petroleum supply. EIA surveys collect data on petroleum refinery operations, blending, biofuels production, natural gas liquids production, inventory levels, imports, inter-regional movements, and storage capacity for crude oil, petroleum, products, and biofuels. Information regarding EIA's work on petroleum supply can be found at https://www.eia.gov/petroleum/. DOE can review the information provided to EIA through its surveys to evaluate applicants submitting Form DOE F 544. Therefore, to avoid duplication, DOE will not be revising Form DOE F 544.

Statutory Authority: Defense Production Act of 1950 as amended (50 U.S.C. 4501, et seq.); Executive Order 13603.

Signing Authority

This document of the Department of Energy was signed on August 27, 2020, by Bruce J. Walker, Assistant Secretary, Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 27, 2020.
Treena V. Garrett,
Federal Register Liaison Officer, U.S. Department of Energy.

[FR Doc. 2020-19321 Filed 9-1-20; 8:45 am]

BILLING CODE 6450-01-P